DEPARTMENT OF THE INTERIOR

National Park Service

National Register of Historic Places; Notification of Pending Nomination

Nomination for the following property being considered for listing in the National Register was received by the National Park Service on December 8, 2009. Pursuant to section 60.13 of 36 CFR part 60 written comments concerning the significance of this property under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by December 18, 2009.

J. Paul Loether,
Chief, National Register of Historic Places/National Historic Landmarks Program.

In the interest of preservation the comment period for the following resource has been shortened to (3) three days:

Illinois

Cook County

Reese, Michael Hospital Campus, Roughly bounded by 26th St., Cottage Grove, Vernon Avenues, 31st St., and the Illinois Central Railroad Tracks, Chicago, 09001236.

[FR Doc. E9-29763 Filed 12-14-09; 8:45 am]

BILLING CODE P